DEPARTMENT OF ENERGY

Federal Energy Regulatory Commission

Combined Notice of Filings #1

Take notice that the Commission received the following electric rate filings:

Docket Numbers: ER10-3184-003; ER10-2805-003.

Applicants: FortisUS Energy Corporation, Central Hudson Gas & Electric Corporation.

Description: Notice of Non-Material Change in Status of FortisUS Energy Corporation and Central Hudson Gas & Electric Corporation, et. al.

Filed Date: 1/9/15.

Accession Number: 20150109-5262.

Comments Due: 5 p.m. ET 1/30/15.

Docket Numbers: ER12-2499-010; ER12-2498-010; ER13-764-010; ER11-4055-004; ER12-1566-004; ER14-1548-002; ER12-1470-004; ER10-2977-004; ER11-3987-005; ER14-474-002; ER10-1290-005; ER10-3026-004.

Applicants: Alpaugh North, LLC, Alpaugh 50, LLC, CED White River Solar, LLC, Copper Mountain Solar 1, LLC, Copper Mountain Solar 2, LLC, Copper Mountain Solar 3, LLC, Energia Sierra Juarez U.S., LLC, Mesquite Power, LLC, Mesquite Solar 1, LLC, Sempra Generation, LLC, San Diego Gas & Electric Company, Termoelectrica U.S., LLC.

Description: Notice of Non-Material Change in Status of the Sempra Energy Sellers.

Filed Date: 1/9/15.

Accession Number: 20150109-5267.

Comments Due: 5 p.m. ET 1/30/15.

Docket Numbers: ER13-2109-003; ER13-2106-003; ER10-1410-003; ER13-321-003; ER13-412-002; ER13-450-002; ER13-434-002; ER13-518-002; ER13-1403-004; ER14-2140-003; ER14-2141-003; ER15-632-001; ER15-634-001; ER14-2466-002; ER14-2465-002.

Applicants: Fowler Ridge Wind Farm LLC, NedPower Mount Storm, LLC, Virginia Electric and Power Company, Fairless Energy, LLC, Dominion Nuclear Connecticut, Inc., Dominion Energy Manchester Street, Inc., Dominion Energy Marketing, Inc., Dominion Retail, Inc., Dominion Bridgeport Fuel Cell, LLC, Mulberry Farm, LLC, Selmer Farm, LLC, CID Solar, LLC, Cottonwood Solar, LLC, RE Camelot LLC, RE Columbia Two LLC.

Description: Notice of Non-Material Change in Status of the Dominion Companies.

Filed Date: 1/9/15.

Accession Number: 20150109-5273.

Comments Due: 5 p.m. ET 1/30/15.

Docket Numbers: ER15-104-001.

Applicants: Midcontinent Independent System Operator, Inc.

Description: Tariff Amendment per 35.17(b): 2015-01-09_SA 1503 NSP-Mankato GIA Deficiency Response (G261) to be effective 10/16/2014.

Filed Date: 1/9/15.

Accession Number: 20150109-5182.

Comments Due: 5 p.m. ET 1/30/15.

Docket Numbers: ER15-569-001.

Applicants: Southwest Power Pool, Inc.

Description: Tariff Amendment per 35.17(b): 1895 S-R3 Westar Energy, Inc. NITSA and NOA to be effective 8/1/2014.

Filed Date: 1/12/15.

Accession Number: 20150112-5128.

Comments Due: 5 p.m. ET 2/2/15.

Docket Numbers: ER15-838-000.

Applicants: AEP Texas Central Company.

Description: § 205(d) rate filing per 35.13(a)(2)(iii): TCC-San Roman Wind I Interconnection Agreement to be effective 12/19/2014.

Filed Date: 1/12/15.

Accession Number: 20150112-5103.

Comments Due: 5 p.m. ET 2/2/15.

Docket Numbers: ER15-839-000.

Applicants: Lucky Corridor, LLC.

Description: Application of Lucky Corridor, LLC for Revision and to Amend Existing Market Based Authority.

Filed Date: 1/9/15.

Accession Number: 20150109-5215.

Comments Due: 5 p.m. ET 1/30/15.

Docket Numbers: ER15-840-000.

Applicants: Public Service Company of Colorado.

Description: § 205(d) rate filing per 35.13(a)(2)(iii): 2015-1-12 NSP-KSTA T-L Filing to be effective 1/1/2015.

Filed Date: 1/12/15.

Accession Number: 20150112-5124.

Comments Due: 5 p.m. ET 2/2/15.

Docket Numbers: ER15-841-000.

Applicants: PJM Interconnection, L.L.C.

Description: § 205(d) rate filing per 35.13(a)(2)(iii): Service Agreement No. 1202; Queue No. Y3-106 to be effective 12/11/2014.

Filed Date: 1/12/15.

Accession Number: 20150112-5146.

Comments Due: 5 p.m. ET 2/2/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 12, 2015.
Nathaniel J. Davis, Sr.,
Deputy Secretary.

[FR Doc. 2015-00738 Filed 1-16-15; 8:45 am]

BILLING CODE 6717-01-P